DEPARTMENT OF TRANSPORTATION

Federal Aviation Administration

Notice of Availability of Categorical Exclusion and Record of Decision (CATEX/ROD) for EWR RNAV (GPS) X Runway 29 Procedure

AGENCY: Federal Aviation Administration, (FAA), DOT.

ACTION: Notice of Availability.

SUMMARY: The FAA, Eastern Service Area is issuing this notice to advise the public of the availability of the Categorical Exclusion/Record of Decision (CATEX/ROD) for the Newark Liberty International Airport EWR RNAV (GPS) X Runway 29 (RWY 29) procedure. The FAA reviewed the action and determined it to be categorically excluded from further environmental documentation.

FOR FURTHER INFORMATION CONTACT: Mr. Ryan W. Almasy, Federal Aviation Administration, Operations Support Group, Eastern Service Center, 1701 Columbia Avenue, College Park, Georgia 30337, (404) 305-5601 or http://www.faa.gov/air_traffic/environmental_issues/.

SUPPLEMENTARY INFORMATION: The EWR RNAV (GPS) X RWY 29 procedure at Newark Liberty International Airport will be used as an overflow procedure when EWR is landing RWY 4Left/Right and is anticipated to be used only between the hours of 7:00 a.m. and 10:00 p.m., by approximately 1,700 aircraft annually. This is approximately 3 percent of total landing operation on RWY 29. The FAA reviewed the action and determined it to be categorically excluded from further environmental documentation according to FAA Order 1050.1F, Environmental Impacts: Policies and Procedures. The applicable categorical exclusion is § 5-6.5(q.).

Issued in College Park, Georgia, on April 13, 2017.
Geoff Lelliott,
Acting Manager, Operations Support Group, Eastern Service Center, Air Traffic Organization.

[FR Doc. 2017-08101 Filed 4-20-17; 8:45 am]

BILLING CODE 4910-13-P